NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 14, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Missile Defense Agency (N1-565-12-1, 30 items, 25 temporary items). Comprehensive schedule covering various administrative records relating to policy, legal affairs, environmental safety, buildings, and publicity. Proposed for permanent retention are records relating to policies and procedures, executive correspondence, legal opinions, major building projects, environmental compliance, and news releases.

2. Department of Health and Human Services, Office of the Secretary (DAA-0468-2012-0005, 4 items, 3 temporary items). Records of the Office of the Assistant Secretary for Preparedness and Response, including records documenting the office's participation in public health and medical response efforts to small-scale disasters and interagency emergency programs led by other agencies. Proposed for permanent retention are case files for public health and medical response efforts to historically significant disasters and crises, including logs, reports, orders, and plans.

3. Department of Health and Human Services, Office of the Secretary (DAA-0468-2012-0006, 4 items, 3 temporary items). Records of the Office of the Assistant Secretary for Preparedness and Response, including records that document the definitive medical response efforts for small-scale disasters. Proposed for permanent retention are historically significant definitive disaster reports.

4. Department of Justice, Civil Rights Division (DAA-0060-2011-0023, 1 item, 1 temporary item). Master files of an electronic information system used to track workflow for processing grant applications.

5. Department of Treasury, Internal Revenue Service (DAA-0058-2012-0002, 2 items, 2 temporary items). Master files and documentation of an electronic information system used to maintain information relating to frivolous tax returns and penalties.

6. Department of Treasury, Internal Revenue Service (DAA-0058-2012-0008, 2 items, 2 temporary items). Master files and documentation of an electronic information system used to analyze and reduce security risks for internal information technology systems.

7. Environmental Protection Agency, Agency-wide (DAA-0412-2013-0001, 3 items, 3 temporary items). Records relating to security management, including the physical protection of personnel, assets, and facilities, but not activities related to securing data and information systems scheduled separately.

Dated: November 5, 2012.
Paul M. Wester, Jr.,
Chief Records Officer for the U.S. Government.

[FR Doc. 2012-27677 Filed 11-13-12; 8:45 am]

BILLING CODE 7515-01-P